DEPARTMENT OF LABOR

Office of the Secretary

Labor Advisory Committee for Trade Negotiations and Trade Policy

ACTION: Notice of Charter Renewal.

SUMMARY: Pursuant to the Federal Advisory Committee Act (FACA), as amended (5 U.S.C. App. 2), the Secretary of Labor and the United States Trade Representative have determined that renewal of the Labor Advisory Committee for Trade Negotiations and Trade Policy is necessary and in the public interest. The Committee will be chartered pursuant to section 135(c)(1) and (2) of the Trade Act of 1974, 19 U.S.C. 2155(c)(1) and (2), as amended and Executive Order 11846 of March 27, 1975, 3 CFR, 1971-1975 Comp., p. 971 (which delegates certain Presidential responsibilities conferred in section 135 of the Trade Act of 1974 to the United States Trade Representative).

SUPPLEMENTARY INFORMATION: The Labor Advisory Committee for Trade Negotiations and Trade Policy consults with and makes recommendations to the Secretary of Labor and the United States Trade Representative on general policy matters concerning labor and trade negotiations, operations of any trade agreement once entered into, and other matters arising in connection with the administration of the trade policy of the United States.

The current Charter expires on May 25, 2016. The renewal of the charter of the Labor Advisory Committee for Trade Negotiations and Trade Policy is necessary and in the public interest, as the Committee will provide information that cannot be obtained from other sources. The Committee shall provide its views to the Secretary of Labor and the Unites States Trade Representative through the Bureau of International Labor Affairs of the U.S. Department of Labor. The Committee is to be comprised of no more than 30 members representing the labor community. The Committee will meet at irregular intervals at the call of the Secretary of Labor and the United States Trade Representative.

FOR FURTHER INFORMATION CONTACT: Anne M. Zollner, Designated Federal Official and Division Chief, Trade Policy and Negotiations, Office of Trade and Labor Affairs, Bureau of International Labor Affairs, Department of Labor, Frances Perkins Building, Room S-5317, 200 Constitution Ave. NW., Washington, DC 20210, telephone (202) 693-4890.

Signed at Washington, DC, this day 13 of May 2016.
Carol Pier,
Deputy Undersecretary of the International Labor Affairs Bureau.

[FR Doc. 2016-11842 Filed 5-18-16; 8:45 am]

BILLING CODE 4510-28-P